DEPARTMENT OF COMMERCE

National Oceanic and Atmospheric Administration

50 CFR Part 622

[Docket No. 180427420-8420-02]

RIN 0648-BH92

Fisheries of the Caribbean, Gulf of Mexico, and South Atlantic; Reef Fish Fishery of the Gulf of Mexico; Revisions to Sea Turtle Release Gear; Amendment 49

AGENCY: National Marine Fisheries Service (NMFS), National Oceanic and Atmospheric Administration (NOAA), Commerce.

ACTION: Final rule.

SUMMARY: NMFS implements management measures described in Amendment 49 to the Fishery Management Plan (FMP) for the Reef Fish Resources of the Gulf of Mexico (Gulf) (Amendment 49), as prepared and submitted by the Gulf of Mexico Fishery Management Council (Council). This final rule adds three new devices to the Federal regulations as options for fishermen with Federal commercial or charter vessel/headboat permits for Gulf reef fish to meet existing requirements for carrying sea turtle release gear on board vessels, and updates the regulations to simplify and clarify the requirements for other sea turtle release gear. This final rule also modifies the FMP framework procedure to allow for future changes to release gear and handling requirements for sea turtles and other protected resources. The purpose of this final rule is to allow the use of new devices to safely handle and release incidentally captured sea turtles, clarify existing requirements, and streamline the process for making any future changes to the release devices and handling procedures for sea turtles and other protected species.

DATES: This final rule is effective on June 17, 2019. The incorporation by reference of certain publications listed in this final rule is approved by the Director of the Federal Register as of June 17, 2019.

ADDRESSES: Electronic copies of Amendment 49 may be obtained from www.regulations.gov or from the Southeast Regional Office website at https://www.fisheries.noaa.gov/action/amendment-49-modify-sea-turtle-release-gear-and-reef-fish-framework-procedure.html. Amendment 49 includes an environmental assessment, a fishery impact statement, a regulatory impact review, and a Regulatory Flexibility Act analysis.

FOR FURTHER INFORMATION CONTACT: Kelli O'Donnell, NMFS Southeast Regional Office, telephone: 727-824-5305; email: kelli.odonnell@noaa.gov.

SUPPLEMENTARY INFORMATION: NMFS and the Council manage the Gulf reef fish fishery under the FMP. The FMP was prepared by the Council and is implemented by NMFS through regulations at 50 CFR part 622 under the authority of the Magnuson-Stevens Fishery Conservation and Management Act (Magnuson-Stevens Act) (16 U.S.C. 1801 et seq.).

On October 4, 2018, NMFS published a notice of availability (NOA) for Amendment 49 and requested public comment (83 FR 50056). On October 25, 2018, NMFS published a proposed rule for Amendment 49 and requested public comment (83 FR 53839). Amendment 49 and the proposed rule outline the rationale for the actions contained in this final rule. A summary of the management measures described in Amendment 49 and implemented by this final rule is provided below.

Management Measures Contained in This Final Rule

This final rule adds three new sea turtle handling and release devices to the Federal regulations, clarifies the requirements for other required gear previously approved, and modifies the FMP framework procedure to include any future changes to release gear and handling requirements for sea turtles and other protected resources. NMFS and the Council are making these changes to provide additional flexibility to fishermen in complying with sea turtle release gear requirements, to aid fishermen and law enforcement with compliance and enforcement efforts by clarifying existing requirements, and to allow for more rapid implementation of regulatory changes to release gear and handling requirements.

New Sea Turtle Release Gear

For vessels with Federal commercial and charter vessel/headboat permits for Gulf reef fish, this final rule adds three new sea turtle release and handling devices to the Federal regulations that have been approved for use by the NMFS Southeast Fisheries Science Center (SEFSC), providing more options for fishermen to fulfill the sea turtle gear requirements. Details for these new devices can be found in Amendment 49 and in the proposed rule, and is included in the 2019 NMFS SEFSC sea turtle handling and release protocols Technical Memorandum titled, “Careful Release Protocols for Sea Turtle Release with Minimal Injury” (Release Protocols). Detailed specifications for all SEFSC-approved handling and release devices are included in the new NMFS SEFSC Technical Memorandum titled, “Design Standards and Equipment for Careful Release of Sea Turtles Caught in Hook-and-Line Fisheries.” NMFS expects the new release devices to increase flexibility for fishermen and increase regulatory compliance within the fishery, which may result in positive benefits to sea turtles.

Two of the new sea turtle handling devices are a collapsible hoop net and a sea turtle hoist (net). Both of these devices are more compact versions of the previously approved long-handled dip net, and they would be used for bringing an incidentally captured sea turtle on board the fishing vessel to remove fishing gear from the sea turtle. For the collapsible hoop net, the net portion is attached to hoops made of flexible stainless steel cable; when the collapsible hoop net is folded over on itself for storage, its size reduces to about half of its original diameter. Additionally, there are two versions of the sea turtle hoist. One version consists of the net portion securely fastened to a rigid frame, providing a relatively taut platform for the sea turtle to be brought on board. Another version creates a basket with the rigid frame and net that holds the sea turtle as it is brought on board. Both the collapsible hoop net and the sea turtle hoist use rope lines as handles attached to either side of the frame, in place of the long, rigid handle on the dip net. The collapsible hoop net or hoist can be used to bring sea turtles on board vessels with a high freeboard when it is not feasible to use or store a dip net on the vessel.

The third new device is a dehooker that can be used to remove an externally embedded hook from a sea turtle. This device has a squeeze handle that secures the hook into notches at the end of the shaft of the dehooker, so the hook can be twisted out. This new device provides another option for fishermen to comply with the regulations for a short-handled dehooker for external hooks.

Requirements for Existing Sea Turtle Release Gear

This final rule also updates the requirements of some previously approved devices for clarity and simplicity, and to aid fishermen and law enforcement with compliance and enforcement efforts. This final rule replaces “approximately” in the applicable regulations and provides precise specifications to clarify requirements for the dimensions or lengths of several devices. The revisions provide for either a minimum size dimension or a size range for the short-handled dehookers for external and internal hooks, the bite block on the short-handled internal use dehooker, the long-nose or needle-nose pliers, the bolt cutters, and the block of hard wood and hank of rope when used as mouth openers and gags. In general, these clarifications either establish the approximate dimensions previously approved as a minimum, or establish the smaller end of the size range for the required dimensions as a minimum. Other changes to release devices are listed below.

Previously approved regulations specify that short and long-handled dehookers must be constructed of grade 316L stainless steel, which is resistant to corrosion from salt water. SEFSC has also approved grade 304L stainless steel for the construction of all short-handled and long-handled dehookers. This additional grade of stainless steel is commonly available and is also corrosion resistant. This final rule allows for the construction of these dehookers to include 304L stainless steel.

Another required device to assist with removing fishing gear from a sea turtle is a pair of monofilament line cutters. SEFSC has clarified that the blade length must be a minimum of 1 inch (2.54 cm) but can be longer, and therefore, this final rule revises the blade length requirement.

Mouth openers and gags are another required gear type used to hold a sea turtle's mouth open to remove fishing gear. At least two of the seven types of mouth openers and gags are required on board. Previous regulations stated the canine mouth gags, an option for this gear requirement, had to have the ends covered with clear vinyl tubing, friction tape, or similar, to add more padding to the surface of the mouth gag. However, SEFSC has determined that this is not necessary and could result in the canine mouth gags not functioning properly. This final rule removes the requirement to cover the ends of the canine mouth gags with these materials from the regulations.

A life-saving device on a vessel, such as a personal flotation device or life ring buoy, may be used as the required cushion or support device for sea turtles brought aboard a vessel to remove fishing gear. This final rule adds regulatory language to clarify that any life-saving device used to fulfill the sea turtle safe handling requirements cannot also be used to meet U.S. Coast Guard safety requirements of one flotation device per person on board the vessel, i.e., there must be an extra life-saving device on board to meet the requirement for a sea turtle cushion or support device.

Lastly, fishermen are required to maintain a copy of the NMFS document titled, “Careful Release Protocols for Sea Turtle Release with Minimal Injury” on each vessel for reference in the event a sea turtle is incidentally captured. This final rule allows fishermen to use an electronic or paper copy of the 2019 version of the Release Protocols document to fulfill the requirement, as long as the electronic copy is readily available for viewing and reference during a trip.

FMP Framework Procedure

To expand the Council and NMFS' ability to implement new release devices and handling requirements in a more timely manner, Amendment 49 and this final rule allow changes to the release gear and handling techniques for sea turtles and other protected species under the FMP framework procedure. For example, the Council could more quickly add a new release device for sea turtles if approved by SEFSC. The Council decided that making these changes through an expedited process may have beneficial biological and socio-economic impacts, especially if the changes respond to newer information. The Council concluded that the framework procedure would still allow adequate time for the public to comment on any future proposed regulatory changes.

Comments and Responses

NMFS received 11 comments during the public comment periods on the NOA and proposed rule for Amendment 49. The majority of the comments were in support of Amendment 49 and the proposed rule. NMFS acknowledges the comments in favor of all or part of the actions in Amendment 49 and the proposed rule, and agrees with them. Comments that were beyond the scope of the proposed rule are not responded to in this final rule. In this final rule, no changes were made in response to public comment on Amendment 49 or the proposed rule. One comment addressing an action in Amendment 49 and the proposed rule, as well as NMFS' response, is summarized below.

Comment 1: The action to remove the padding from the ends of the canine mouth gags is concerning, because they are an approved sea turtle handling and release device. The padded surface helps to hold the sea turtle's mouth open and keeps the mouth gag in place. Before implementing the final rule, further research should be conducted on the benefits of a padded surface to sea turtle safety.

Response: During the development of Amendment 49, the Council and NMFS discussed removing the requirement for vinyl tubing or other similar padding from the canine mouth gags. These gags are already manufactured with a small rubber pad on each end to provide protection and secure the device. SEFSC determined through previous experiences using the canine mouth gags on sea turtles that the additional tubing could prevent the gags from operating as intended and slip, which could cause the gag to dislodge during the removal of fishing gear and cause injury to the sea turtle or the person removing the fishing gear. Therefore, this final rule removes the requirement for tubing or padding from canine mouth gags when used to comply with the sea turtle release gear requirements.

Changes to the Codified Text From the Proposed Rule

In this final rule, NMFS removes the introductory paragraph in appendix F to part 622 that originally appeared in the proposed rule for Amendment 49. NMFS has determined the introductory paragraph is not necessary.

This final rule corrects a paragraph reference in the regulatory text of the proposed rule located in appendix F, paragraph C.4. The paragraph reference A.3. for a long-handled J-style dehooker is corrected to read paragraph C.3.

This final rule modifies language in paragraph C.4.(a) of appendix F to part 622 for further consistency with the 2019 Release Protocols document. A long-handled gaff or another tool with a sharp point that may be used to grab or control fishing gear must never contact a sea turtle to avoid potentially serious injury to the animal.

In addition, NMFS corrects language that appeared in the regulatory text of the proposed rule in appendix F, paragraph C.12(b) to remove reference to specific grades of stainless steel for the canine mouth gags. Although this device was previously required to be constructed of stainless steel, the Council and SEFSC did not recommend specific grades of stainless steel for this device in Amendment 49. Canine mouth gags are manufactured primarily for use by veterinarians, and it is not possible to customize their construction using specific grades of stainless steel.

This final rule includes additional language in paragraph D. of appendix F to part 622 regulations to more completely summarize sea turtle handling and release techniques stated in the 2019 Release Protocols document.

NMFS made additional small edits to the regulatory text in appendix F to part 622 to improve consistency and readability, and reduce redundancy.

Finally, this final rule adds more information regarding materials that are incorporated by reference (IBR), e.g., the 2019 Release Protocols document, including specifying in the part 622 regulations how fishermen and other interested parties can readily obtain these materials.

Incorporation by Reference

If a sea turtle is incidentally caught during fishing operations, the owner or operator of a federally permitted commercial vessel or a recreational charter vessel or headboat for Gulf reef fish must have the 2019 Release Protocols document (incorporated by reference, see § 622.29(b) below) available for reference on board to safely handle and release the animal. In addition, a placard summarizing sea turtle handling and release guidelines (incorporated by reference, see § 622.29(b) below) must be posted on the vessel. The Release Protocols document is a NOAA Technical Memorandum published by the NMFS Southeast Fisheries Science Center. The placard is also contained within the Release Protocols document, and the placard is available in English, Spanish, and Vietnamese. Both the Release Protocols document and placard are available at the NMFS Southeast Regional Office, 263 13th Ave. South, St. Petersburg, FL 33701, phone: 727-824-5301, or for digital download and printing from this website: https://www.fisheries.noaa.gov/southeast/endangered-species-conservation/sea-turtle-and-smalltooth-sawfish-release-gear-protocols.html.

Classification

The Regional Administrator for the NMFS Southeast Region has determined that this final rule is consistent with Amendment 49, the FMP, the Magnuson-Stevens Act, and other applicable laws.

This final rule has been determined to be not significant for purposes of Executive Order 12866.

The Magnuson-Stevens Act provides the statutory basis for this final rule. No duplicative, overlapping, or conflicting Federal rules have been identified. A description of this final rule, why it is being implemented, and the purposes of this final rule are contained in the SUMMARY and SUPPLEMENTARY INFORMATION sections of this preamble.

The objectives of this final rule are to provide greater flexibility to vessels in the commercial reef fish fishing industry (i.e., with Federal commercial Gulf reef fish permits) and for-hire reef fish fishing industry (i.e., with Federal charter vessel/headboat Gulf reef fish permits) in complying with release gear regulations, clarify existing requirements of currently required release gear for fishery participants and law enforcement officers, and streamline the process for future revisions to release gear and handling procedures for incidentally captured sea turtles and other protected species after approval by the SEFSC.

The Chief Counsel for Regulation of the Department of Commerce certified to the Chief Counsel for Advocacy of the Small Business Administration (SBA) during the proposed rule stage that this final rule would not have a significant economic impact on a substantial number of small entities. NMFS did not receive any comments from SBA's Office of Advocacy or the public regarding the economic analysis of Amendment 49 or the certification in the proposed rule. No changes to this final rule were made in response to public comments. The factual basis for the certification was published in the proposed rule and is not repeated here. Because this final rule is not expected to have a significant economic impact on a substantial number of small entities, a final regulatory flexibility analysis is not required and none has been prepared.

List of Subjects in 50 CFR Part 622

Charter vessel, Commercial, Fisheries, Fishing, Gulf of Mexico, Headboat, Incorporation by reference, Sea turtle.

Dated: May 10, 2019.
Samuel D. Rauch, III,
Deputy Assistant Administrator for Regulatory Programs, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In § 622.29, revise paragraph (a)(1) and add paragraph (b) to read as follows:

§ 622.29 Conservation measures for protected resources.

(a) * * *

(1) Sea turtle conservation measures. (i) The owner or operator of a vessel for which a commercial vessel permit for Gulf reef fish or a charter vessel/headboat permit for Gulf reef fish has been issued, as required under § 622.20(a)(1) and (b), respectively, must have the 2019 version of the NMFS document titled, “Careful Release Protocols for Sea Turtle Release with Minimal Injury” available for reference on board electronically or have a paper copy on board inside the wheelhouse, or within a waterproof case if there is no wheelhouse. In addition, the NMFS sea turtle handling and release guidelines placard must be posted inside the wheelhouse or an easily viewable area on the vessel if there is no wheelhouse.

(ii) Such owner or operator must also comply with the sea turtle interaction mitigation measures, including the release gear and handling requirements specified in paragraphs C. and D. in appendix F to this part.

(iii) Those permitted vessels with a freeboard height of 4 ft (1.2 m) or less must have on board a net or hoist, tire or other support device, short-handled dehooker(s) for internal and external hooks, long-nose or needle-nose pliers, bolt cutters, monofilament line cutters, and at least two types of mouth openers or mouth gags. This equipment must meet the specifications described in appendix F to this part.

(iv) Those permitted vessels with a freeboard height of greater than 4 ft (1.2 m) must have on board a net or hoist, tire or other support device, long-handled line clipper or cutter, short-handled dehooker(s) for internal and external hooks, long-handled dehooker(s) for internal and external hooks, a long-handled device to pull an inverted “V” in the fishing line, long-nose or needle-nose pliers, bolt cutters, monofilament line cutters, and at least two types of mouth openers or mouth gags. This equipment must meet the specifications described in appendix F to this part.

* * * * *

(b) Incorporation by reference. The standards required in paragraph (a)(1) of this section are incorporated by reference into this section with the approval of the Director of the Federal Register under 5 U.S.C. 552(a) and 1 CFR part 51. All approved material is available for inspection at the National Marine Fisheries Service, Southeast Regional Office, 263 13th Ave. South, St. Petersburg, FL 33701, phone: 727-824-5301, website: https://www.fisheries.noaa.gov/southeast/endangered-species-conservation/sea-turtle-and-smalltooth-sawfish-release-gear-protocols.html, and is available from the sources listed in paragraphs (b)(1) and (2) of this section. It is also available for inspection at the National Archives and Records Administration (NARA). For information on the availability of this material at NARA, call 202-741-6030 or go to www.archives.gov/federal-register/cfr/ibr-locations.html.

(1) U.S. Department of Commerce, National Oceanic and Atmospheric Administration, National Marine Fisheries Service, Southeast Fisheries Science Center, 75 Virginia Beach Drive, Miami, FL 33149.

(i) Careful Release Protocols for Sea Turtle Release with Minimal Injury, NOAA Technical Memorandum NMFS-SEFSC-735, Stokes, L., and Bergmann, C. (Editors), 2019.

(ii) [Reserved]

(2) U.S. Department of Commerce, National Oceanic and Atmospheric Administration, National Marine Fisheries Service, Southeast Regional Office, 263 13th Ave. South, St. Petersburg, FL 33701.

(i) Sea Turtle Handling/Release Guidelines: Quick Reference for Hook and Line Fisheries, English, Spanish, Vietnamese, Revised April 2019.

(ii) [Reserved]

3. In § 622.42, revise the introductory text and add paragraph (b) to read as follows:

§ 622.42 Adjustment of management measures.

In accordance with the framework procedures of the FMP for the Reef Fish Resources of the Gulf of Mexico, the RA may establish or modify the items specified in paragraph (a) of this section for Gulf reef fish, or paragraph (b) of this section for sea turtles and other protected species.

* * * * *

(b) Possession, specifications, and use of required release gear and handling requirements for sea turtles and other protected species.

4. Amend appendix F to part 622 by:

a. Revising the appendix heading;

b. Revising the headings of paragraphs A. and B.; and

c. Adding paragraphs C. through E.

The revisions and additions read as follows:

Appendix F to Part 622—Specifications for Sea Turtle Release Gear and Handling Requirements

A. Sea turtle release gear for the snapper-grouper fishery of the South Atlantic.

* * * * *

B. Sea turtle handling and release requirements for the snapper-grouper fishery of the South Atlantic. * * *

* * * * *

C. Sea turtle release gear for the reef fish fishery of the Gulf of Mexico.

1. Long-handled line clipper or cutter. Line cutters are intended to cut fishing line as close as possible to the hook, and assist in removing line from an entangled sea turtle to minimize any remaining gear upon release. One long-handled line clipper or cutter and one set of replacement blades are required to be on board. The minimum design standards are as follows:

(a) A protected and secured cutting blade. The cutting blade(s) must be capable of cutting 2.0 to 2.1-mm (0.078 to 0.083-inch) diameter monofilament line (approximately 400 to 450-lb test strength) or polypropylene multistrand material, known as braided or tarred mainline, and the cutting blade must be maintained in working order. The cutting blade must be curved, recessed, contained in a holder, or otherwise designed to facilitate its safe use so that direct contact between the cutting surface and the sea turtle or the user is prevented. The cutting instrument must be securely attached to an extended reach handle and the blade(s) must be easily replaceable during a trip if necessary. The extra set of replacement blades must meet these standards and be carried on board to replace all cutting surfaces on the line cutter or clipper.

(b) An extended reach handle. The line cutter blade must be securely fastened to an extended reach handle or pole with a minimum length equal to or greater than 150 percent of the freeboard, or a minimum length of 6 ft (1.8 m), whichever is greater. The extended reach handle may break down into sections for storage, but it is not required. There is no restriction on the type of material used to construct this handle as long as it is sturdy and facilitates the secure attachment of the cutting blade.

2. Long-handled dehooker for internal hooks. One long-handled dehooker to remove internal hooks from sea turtles that cannot be brought on board is required on the vessel. It should also be used to engage an unattached hook when a sea turtle is entangled but not hooked, and line is being removed. The design must shield the point of the hook and prevent the hook from re-engaging during the removal process. The minimum design standards are as follows:

(a) Hook removal device. The dehooker must be constructed of 3/16-inch (4.8-mm) to 5/16-inch (7.9-mm) diameter 316L or 304L stainless steel and have a dehooking end no larger than 1⅞ inches (4.8 cm) outside diameter. The dehooker must securely engage and control the leader while shielding the point to prevent the hook from re-engaging during removal. It may not have any unprotected terminal points (including blunt ones), as these could cause injury to the esophagus during hook removal. The dehooker must be of a size appropriate to secure the range of hook sizes and styles used on the vessel.

(b) Extended reach handle. The dehooking end that secures the fishhook must be securely fastened to an extended reach handle or pole with a minimum length equal to or greater than 150 percent of the freeboard, or a minimum of 6 ft (1.8 m), whichever is greater. The extended reach handle may break down into sections for storage, but it is not required. The handle must be sturdy and strong enough to facilitate the secure attachment of the dehooking end.

3. Long-handled dehooker for external hooks. One long-handled dehooker to remove external hooks from sea turtles that cannot be brought on board is required on the vessel. The long-handled dehooker for internal hooks described in paragraph C.2. of this appendix may be used to comply with this requirement. The minimum design standards are as follows:

(a) Hook removal device. A long-handled dehooker must be constructed of 3/16-inch (4.8-mm) to 5/16-inch (7.9-mm) diameter 316L or 304L stainless steel and have a dehooking end no larger than 1⅞ inches (4.8 cm) outside diameter. The dehooking end that secures the fishhook must be blunt with all edges rounded. The dehooker must be of a size appropriate to secure the range of hook sizes and styles used on the vessel.

(b) Extended reach handle. The handle must be a minimum length equal to the freeboard of the vessel or 6 ft (1.8 m), whichever is greater. The extended reach handle may break down into sections for storage, but it is not required.

4. Long-handled device to pull an “inverted V”. One long-handled device to pull an “inverted V” is required on board. This tool is used to pull an “inverted V” in the fishing line when implementing the “inverted V” dehooking technique, as described in the 2019 version of the document titled “Careful Release Protocols for Sea Turtle Release with Minimal Injury,” for dehooking and disentangling sea turtles. A long-handled J-style dehooker as described in paragraph C.3. of this appendix may be used to comply with this requirement. The minimum design standards are as follows:

(a) Hook end. This device, such as a standard boat hook or gaff must be constructed of stainless steel or aluminum; if a long-handled J-style dehooker is used to comply with this requirement, it must be constructed of 316L or 304L stainless steel. The semicircular or “J” shaped hook end must be securely attached to the handle to allow the hook end to engage and pull an “inverted V” in the fishing line. A gaff or any other tool with a sharp point is to be used only for holding fishing lines and must never contact the sea turtle.

(b) Extended reach handle. The handle must have a minimum length equal to the freeboard of the vessel or must be at least 6 ft (1.8 m) in length, whichever is greater. The extended reach handle may break down into sections for storage, but it is not required. The handle must be sturdy and strong enough to facilitate the secure attachment of the hook end.

5. Net or hoist. One approved net or hoist is required on board. These devices are to be used to facilitate safe handling of sea turtles by allowing them to be brought on board for fishing gear removal, without causing further injury to the animal. Sea turtles must not be brought on board without the use of a net or hoist. There must be no sharp edges or burrs on the hoop or frame, or where the hoop or frame attaches to the handle. There is no requirement for the hoop or frame to be circular as long as it meets the applicable minimum specifications. In this appendix, bar measure means the non-stretched distance between a side knot and a bottom knot of a net mesh; also known as the square mesh measurement. The types and minimum design standards for approved nets and hoists are as follows:

(a) Dip net—(i) Size of the net. The dip net must have a sturdy net hoop or frame of at least 31 inches (78.7 cm) inside diameter and a bag depth of at least 38 inches (96.5 cm) to accommodate sea turtles up to 3 ft (0.9 m) in carapace (shell) length. The bag mesh size must not exceed 3 inches (7.6 cm), bar measure. The net hoop or frame must be made of a rigid material strong enough to facilitate the sturdy attachment of the net.

(ii) Extended reach handle. The dip net hoop or frame must be securely fastened to an extended reach handle or pole with a minimum length equal to or greater than 150 percent of the freeboard, or at least 6 ft (1.8 m) in length, whichever is greater. The handle and net must be able to support a minimum of 100 lb (45.4 kg) without breaking or significant bending or distortion. The extended reach handle may break down into sections for storage, but it is not required.

(b) Collapsible hoop net—(i) Size of the net. The collapsible hoop net must have a sturdy net hoop of at least 31 inches (78.7 cm) inside diameter and a bag depth of at least 38 inches (96.5 cm) to accommodate sea turtles up to 3 ft (0.9 m) in carapace (shell) length. The bag mesh size must not exceed 3 inches (7.6 cm), bar measure. The net hoop must be strong enough to facilitate the sturdy attachment of the net.

(ii) Extended reach handle. The collapsible hoop net must be securely fastened with rope(s) or other line(s) connected to the hoop with a minimum length equal to or greater than 150 percent of the freeboard, or at least 6 ft (1.8 m) in length, whichever is greater. The rope(s) and net must be able to support a minimum of 100 lb (45.4 kg) without breaking or significant distortion.

(c) Small hoist—(i) Size of the hoist. The sea turtle hoist must have a sturdy net hoop or frame of at least 31 inches (78.7 cm) inside diameter to accommodate sea turtles up to 3 ft (0.9 m) in carapace (shell) length. The net mesh size must not exceed 3 inches (7.6 cm), bar measure. If polyvinyl chloride, or PVC, pipe is used to construct the hoist, the pipe fittings must be glued together and a minimum strength of Schedule 40 pipe must be used. The hoist hoop or frame must be made of a rigid material strong enough to facilitate the sturdy attachment of the net.

(ii) Extended reach handle. The sea turtle hoist must be securely fastened with ropes or other lines connected to the hoop or frame with a minimum length equal to or greater than 150 percent of the freeboard, or at least 6 ft (1.8 m) in length, whichever is greater. The ropes and hoist hoop or frame must be able to support a minimum of 100 lb (45.4 kg) without breaking or significant distortion.

6. Cushion or support device. A standard automobile tire free of exposed steel belts, a boat cushion, or any other comparable cushioned and elevated surface, is required for supporting a sea turtle in an upright orientation while the sea turtle is on board. The cushion or support device must be appropriately sized to fully support a range of sea turtle sizes. Any life-saving device that would be used to support a sea turtle on board must be dedicated for that purpose and in addition to all minimum human safety at sea requirements.

7. Short-handled dehooker for internal hooks. One short-handled dehooker for removing internal hooks is required on board. This dehooker is designed to remove internal hooks from sea turtles brought on board. This dehooker can also be used on external hooks. The minimum design standards are as follows:

(a) General. The dehooker must allow the hook to be secured and the hook point shielded without re-engaging during the removal process. It may not have any unprotected terminal points, including blunt ones, as this could cause injury to the esophagus during hook removal. A sliding plastic bite block must be permanently installed around the shaft to protect the beak and facilitate hook removal in case a sea turtle bites down on the dehooker. The dehooker must be of a size appropriate to secure the range of hook sizes and styles used on the vessel.

(b) Specifications. The dehooker must be constructed of 316L or 304L stainless steel. The shaft must be 3/16 inch (4.8-mm) to 5/16 inch (7.9-mm) in diameter. The shaft must be 16 to 24 inches (40.6 cm to 60.7 cm) long, with approximately a 4 to 6-inch (10.2 to 15.2-cm) long tube T-handle, wire loop handle, or similar. The bite block must be constructed of a ¾ to 1-inch (1.9 to 2.5-cm) inside diameter high impact rated, rigid plastic cylinder (e.g., Schedule 80 PVC) that is 4 to 6 inches (10.2 to 15.2 cm) long to allow for 5 inches (12.7 cm) of slide along the shaft. The dehooking end must be no larger than 1⅞ inches (4.8 cm) outside diameter.

8. Short-handled dehooker for external hooks. One short-handled dehooker for external hooks is required on board. This dehooker is designed to remove external hooks from sea turtles brought on board. The short-handled dehooker for internal hooks required to comply with paragraph C.7. of this appendix may be used to comply with this requirement. The minimum design standards are as follows:

(a) Fixed handle dehooker—(i) General. The dehooking end that secures the fishhook must be blunt and all edges rounded. The dehooker must be of a size appropriate to secure the range of hook sizes and styles used on the vessel.

(ii) Specifications. The dehooker must be constructed of 316L or 304L stainless steel. The shaft must be 3/16 inch (4.8-mm) to 5/16 inch (7.9-mm) in diameter. The shaft must be 16 to 24 inches (40.6 to 60.7 cm) long with approximately a 4 to 6-inch (10.2 to 15.2-cm) long tube T-handle, wire loop handle, or similar.

(b) Squeeze handle dehooker—(i) General. The dehooking end that secures the fishhook must be blunt and all edges rounded. The dehooker must be able to secure the range of hook sizes and styles used on the vessel. This dehooker secures a fishhook for removal by squeezing the handles together using one hand to grab and pull the hook into notches at the top of the shaft of the dehooker.

(ii) Specifications. The dehooker must be constructed of 316L or 304L stainless steel. The overall length must be a minimum of 11 inches (27.9 cm) long.

9. Long-nose or needle-nose pliers. One pair of long-nose or needle-nose pliers is required on board. Required long-nose or needle-nose pliers can be used to remove hooks from the sea turtle's flesh or for removing hooks from the front of the mouth. They can also hold PVC splice couplings in place, when used as mouth gags. The minimum design standards are as follows: The long-nose or needle-nose pliers must be a minimum of 11 inches (27.9 cm) in length. It is recommended that the pliers be constructed of stainless steel or other corrosion resistant metal material.

10. Bolt cutters. One pair of bolt cutters is required on board. Required bolt cutters may be used to cut off the eye or barb of a hook to facilitate the hook removal without causing further injury to the sea turtle. They should also be used to cut off as much of the hook as possible, when the remainder of the hook cannot be removed. The minimum design standards are as follows: The bolt cutters must be a minimum of 14 inches (35.6 cm) in total length, with blades that are a minimum of 4 inches (10.2 cm) long and 2¼ inches (5.7 cm) wide, when closed. Required bolt cutters must be able to cut hard metals, such as stainless or carbon steel hooks, up to ¼-inch (6.4-mm) wire diameter, and they must be capable of cutting through the hooks used on the vessel.

11. Monofilament line cutters. One pair of monofilament line cutters is required on board. Required monofilament line cutters must be used to remove fishing line entangling a sea turtle, or to cut fishing line as close to the eye of the hook as possible if the hook is swallowed or if the hook cannot be removed. The minimum design standards are as follows: The monofilament line cutters must be a minimum of 6 inches (15.2 cm) in length. The blades must be a minimum of 1 inch (2.5 cm) in length and ⅝ inches (1.6 cm) wide, when closed.

12. Mouth openers or mouth gags. Required mouth openers and mouth gags are used to open sea turtle mouths, and to keep them open when removing internal hooks from sea turtles brought on board. They must allow access to the hook or line without causing further injury to the sea turtle. Design standards are included in the item descriptions. At least two of the seven different types of mouth openers or mouth gags described in paragraphs C.12.(a) through (g) of this appendix are required.

(a) A block of hard wood. A block of hard wood of a type that does not splinter (e.g., maple) with rounded and smoothed edges, or a wooden-handled brush with the bristles removed. The dimensions must be a minimum of 10 inches (25.4 cm) by ¾ inch (1.9 cm) by ¾> inch (1.9 cm).

(b) A set of three canine mouth gags. A set of canine mouth gags must include one of each of the following sizes: Small (5 inches, 12.7 cm), medium (6 inches, 15.2 cm), and large (7 inches, 17.8 cm). They must be constructed of stainless steel.

(c) A set of two sturdy dog chew bones. Required canine chews must be constructed of durable nylon or thermoplastic polymer, and strong enough to withstand biting without splintering. To accommodate a variety of sea turtle beak sizes, a set must include one large (5½ to 8 inches (14 cm to 20.3 cm) in length), and one small (3½ to 4½ inches (8.9 cm to 11.4 cm) in length) canine chew bones.

(d) A set of two rope loops covered with protective tubing. A required set consists of two 3-ft (0.9-m) lengths of poly braid rope (⅜-inch (9.5-mm) diameter suggested), each covered with an 8-inch (20.3-cm) long section of ½-inch (1.3-cm) to ¾-inch (1.9-cm) diameter light duty garden hose or similar flexible tubing, and each rope tied into a loop.

(e) A hank of rope. A length of soft braided or twisted nylon rope a minimum of 3/16-inch (4.8-mm) diameter must be folded to create a hank, or looped bundle, of rope. The rope must create a hank of 2 to 4 inches (5.1 cm to 10.2 cm) in thickness.

(f) A set of four PVC splice couplings. A required set must consist of the following Schedule 40 PVC splice coupling sizes: 1 inch (2.5 cm), 1¼ inch (3.2 cm), 1½ inch (3.8 cm), and 2 inches (5.1 cm). PVC splice couplings are held in a sea turtle's mouth with the needle-nose pliers.

(g) A large avian oral speculum. The avian oral speculum must be 9 inches (22.9 cm) long, and constructed of 3/16-inch (4.8-mm) wire diameter 304 stainless steel. The wire must be covered with 8 inches (20.3 cm) of clear vinyl tubing (5/16-inch (7.9-mm) outside diameter, 3/16-inch (4.8-mm) inside diameter), friction tape, or similar to pad the surface.

D. Sea turtle handling requirements for the reef fish fishery of the Gulf of Mexico. Any sea turtle incidentally captured during fishing operations must be handled, and release gear must be used, in accordance with the NMFS careful handling, resuscitation, and release protocols as specified in this appendix, in the 2019 version of the NMFS document titled, “Careful Release Protocols for Sea Turtle Release with Minimal Injury”, or on the NMFS sea turtle handling and release guidelines placard.

1. Sea turtles brought on board. When practicable, both active and comatose (inactive) sea turtles must be brought on board the vessel without causing further injury to the animal, using a net or hoist as specified in paragraph C.5. of this appendix. Release gear specified in paragraphs C.6. through C.12. of this appendix must be used to remove fishing gear from sea turtles. All sea turtles up to 3 ft (0.9 m) carapace (shell) length must be brought on board to remove fishing gear if sea conditions allow.

(a) Place a sea turtle upright on its bottom shell on a cushion or support device, as specified in paragraph C.6. of this appendix, to immobilize it and facilitate gear removal. Then, determine if the fishing gear can be removed without causing further injury. All externally embedded hooks should be removed, unless hook removal would result in further injury to the sea turtle. No attempt to remove a hook should be made if it has been swallowed and the insertion point of the hook is not clearly visible, or if it is determined that removal would result in further injury to the sea turtle.

(b) If a hook cannot be removed, remove as much line as possible from the sea turtle and the hook using monofilament cutters as specified in paragraph C.11. of this appendix, and as much of the hook as possible should be removed before releasing the sea turtle, using bolt cutters as specified in paragraph C.10. of this appendix.

(c) If a hook can be removed, an effective technique may be to cut off the barb or the eye of the hook using bolt cutters, and then to slide the hook out. When the hook is visible in the mouth, a mouth opener or mouth gag, as specified in paragraph C.12. of this appendix, may facilitate opening the sea turtle's mouth and keeping the mouth open. Short-handled dehookers for internal hooks, or long-nose or needle-nose pliers, as specified in paragraphs C.7. and C.8. of this appendix, respectively, should be used to remove visible hooks from the mouth that have not been swallowed on boated sea turtles, as appropriate.

(d) If a sea turtle appears comatose or inactive, follow the NMFS resuscitation protocols to attempt revival before its release. As much gear as possible must be removed from the sea turtle without causing further injury prior to its release.

(e) Sea turtle resuscitation. Resuscitation must be attempted on any sea turtle that is comatose or appears inactive by:

(i) Place the sea turtle upright on its bottom shell and elevate its hindquarters at least 6 inches (15.2 cm) to drain any water from the sea turtle for a period of at least 4 hours and up to 24 hours. The amount of the elevation depends on the size of the sea turtle; greater elevations are needed for larger sea turtles.

(ii) Periodically rock the sea turtle gently from left to right by holding the outer edge of the shell (carapace) and lift one side about 3 inches (7.6 cm), and then alternate to the other side.

(iii) The sea turtle being resuscitated must be shaded and kept damp or moist. Do not put the sea turtle into a container holding water. A water-soaked towel placed over the head, shell, and flippers is the most effective method to keep a sea turtle moist.

(iv) Gently touch the corner of the eye and pinch the tail (reflex test) periodically to see if there is a response indicating the sea turtle may be recovering.

(f) Sea turtle release. A sea turtle that is actively moving or determined to be dead as described in paragraph D.1.(g) of this appendix must be released. Release the sea turtle when fishing gear is not in use to avoid recapturing the sea turtle. Place the engine gear in neutral position, and then lower the sea turtle into the water from a low part on the vessel, in an area where the sea turtle is unlikely to be recaptured or injured by vessels.

(g) A sea turtle is determined to be dead if the muscles are stiff (rigor mortis) and/or the flesh has begun to rot; otherwise the sea turtle is determined to be comatose or inactive, and resuscitation attempts are necessary as specified in paragraph D.1.(e) of this appendix.

(h) A sea turtle that fails to respond to the reflex test or fails to move within 4 hours (up to 24 hours if possible) must be returned to the water in the same manner as that for an actively moving sea turtle.

2. Sea turtles that cannot be brought on board. If a sea turtle is too large, or is hooked or entangled in a manner that prevents bringing the sea turtle on board safely and without causing further injury, release gear specified in paragraphs C.1. through C.4. of this appendix must be used to remove the maximum amount of fishing gear from the sea turtle, or to remove as much line as possible from the sea turtle or from a hook that cannot be removed prior to releasing the sea turtle.

(a) A non-boated sea turtle should be brought close to the boat. Then, determine whether the hook can be removed without causing further injury to the sea turtle. All externally embedded hooks should be removed, unless hook removal would result in further injury to the sea turtle. No attempt should be made to remove a hook if it has been swallowed and the insertion point is not clearly visible, or if it is determined that removal would result in further injury.

(b) If the hook cannot be removed or if the sea turtle is only entangled, remove as much line as possible prior to its release using a long-handled line cutter specified in paragraph C.1. of this appendix.

(c) If the hook can be removed, it must be removed using the appropriate long-handled dehooker specified in paragraph C.2. or C.3. of this appendix. Without causing further injury, as much gear as possible must be removed from the sea turtle prior to its release.

(3) Any sea turtle taken incidentally while fishing, regardless of whether the sea turtle is alive or dead, or whether it is brought on board, must not be consumed, sold, landed, offloaded, transshipped, or kept below deck.

E. Incorporation by reference. The standards required in paragraphs C. and D. of this appendix are incorporated by reference into this appendix with the approval of the Director of the Federal Register under 5 U.S.C. 552(a) and 1 CFR part 51. All approved material is available for inspection at the National Marine Fisheries Service, Southeast Regional Office, 263 13th Ave. South, St. Petersburg, FL 33701, phone: 727-824-5301, website: https://www.fisheries.noaa.gov/southeast/endangered-species-conservation/sea-turtle-and-smalltooth-sawfish-release-gear-protocols.html, and is available from the sources listed in paragraphs E.1. and E.2. of this appendix. It is also available for inspection at the National Archives and Records Administration (NARA). For information on the availability of this material at NARA, call 202-741-6030 or go to www.archives.gov/federal-register/cfr/ibr-locations.html.

1. U.S. Department of Commerce, National Oceanic and Atmospheric Administration, National Marine Fisheries Service, Southeast Fisheries Science Center, 75 Virginia Beach Drive, Miami, FL 33149.

(a) Careful Release Protocols for Sea Turtle Release with Minimal Injury, NOAA Technical Memorandum NMFS-SEFSC-735, Stokes, L., and Bergmann, C. (Editors), 2019.

(b) [Reserved]

2. U.S. Department of Commerce, National Oceanic and Atmospheric Administration, National Marine Fisheries Service, Southeast Regional Office, 263 13th Ave. South, St. Petersburg, FL 33701.

(a) Sea Turtle Handling/Release Guidelines: Quick Reference for Hook and Line Fisheries, English, Spanish, Vietnamese, Revised April 2019.

(b) [Reserved]

[FR Doc. 2019-10052 Filed 5-16-19; 8:45 am]

BILLING CODE 3510-22-P